DEPARTMENT OF COMMERCE

Foreign-Trade Zones Board

[Order No. 1185]

Expansion of Foreign-Trade Zone 149, Freeport, Texas, Area

Pursuant to its authority under the Foreign-Trade Zones Act of June 18, 1934, as amended (19 U.S.C. 81a-81u), the Foreign-Trade Zones (FTZ) Board (the Board) adopts the following Order:

Whereas, the Brazos River Harbor Navigation District, grantee of Foreign-Trade Zone 149, submitted an application to the Board for authority to expand FTZ 149-Site 6 at the Brazoria County Airport/Industrial Park; to include three new sites in Pearland (Brazoria/Harris Counties) at the Northern Industrial Complex (Site 7), the Southern Industrial Complex (Site 8), and the Bybee-Sterling Complex (Site 9); and, to include a new site in Alvin (Brazoria County) at the Santa Fe Industrial Park (Site 10), adjacent to the Freeport Customs port of entry (FTZ Docket 14-2000; filed 4/14/00);

Whereas, notice inviting public comment was given in the Federal Register (65 FR 24446, 4/26/00) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 149 is approved, subject to the Act and the Board's regulations, including Section 400.28, and further subject to the Board's standard 2,000-acre activation limit for the overall zone project.

Signed at Washington, DC, this 7th day of August 2001.
Faryar Shirzad,
Assistant Secretary of Commerce for Import Administration, Alternate Chairman, Foreign-Trade Zones Board.

[FR Doc. 01-20673 Filed 8-15-01; 8:45 am]

BILLING CODE 3510-DS-P